OFFICE OF PERSONNEL MANAGEMENT

Excepted Service

AGENCY: Office of Personnel Management.

ACTION: Notice.

SUMMARY: This gives notice of OPM decisions, granting authority to make appointments under Schedule A and Schedule C in the excepted service as required by 5 CFR 6.1 and 213.103.

FOR FURTHER INFORMATION CONTACT: Pam Shivery, Director, Washington Service Center, Employment Service (202) 606-1015.

SUPPLEMENTARY INFORMATION: Appearing in the listing below are 1 Schedule A authority and the individual authorities established under Schedule C between June 1, 2002 and June 30, 2002. Future notices will be published on the fourth Tuesday of each month, or as soon as possible thereafter. A consolidated listing of all authorities as of June 30 is published each year.

Schedule A

Chemical Safety and Hazard Investigation Board

Six positions of either Chemical Incident Investigators or Chemical Safety Recommendations Specialist, in the Office of Investigations and Safety Programs. No new appointments may be made under this authority after September 30, 2002.

Schedule C

The following Schedule C authorities were established during June 2002:

Department of Agriculture

Special Assistant to the Administrator, Farm Service Agency. Effective June 7, 2002.

Special Assistant to the Administrator, Rural Utilities Service. Effective June 14, 2002.

Confidential Assistant to the Director, Office of Small and Disadvantaged Business Utilization. Effective June 18, 2002.

Special Assistant to the Administrator, Rural Utilities Service. Effective June 19, 2002.

Special Assistant to the Deputy Administrator, Office of Community Development. Effective June 19, 2002.

Department of Commerce

Deputy Director to the Assistant to the Secretary and Director, Office of Policy and Strategic Planning. Effective June 4, 2002.

Special Assistant to the Assistant Secretary for Trade Development, International Trade Administration. Effective June 13, 2002.

Special Assistant to the Chief of Staff. Effective June 14, 2002.

Policy Advisor to the Chief of Staff. Effective June 18, 2002.

Confidential Assistant to the Director, Office of Public Affairs. Effective June 20, 2002.

Department of Defense

Research Assistant to the Deputy Assistant Secretary of Defense for Issues and Strategy Management. Effective June 4, 2002.

Defense Fellow to the Special Assistant to the Secretary of Defense for White House Liaison. Effective June 6, 2002.

Director of Protocol to the Special Assistant to the Secretary and Deputy Secretary of Defense. Effective June 13, 2002.

Defense Fellow to the Special Assistant to the Secretary of Defense (White House Liaison). Effective June 14, 2002.

Department of Education

Director, Faith-Based and Community Initiatives Center to the Secretary of Education. Effective June 6, 2002.

Special Assistant to the Assistant Secretary for Intergovernmental and Interagency Affairs. Effective June 7, 2002.

Special Assistant to the Assistant Secretary, Office of Vocational and Adult Education. Effective June 18, 2002.

Confidential Assistant to the Deputy Assistant Secretary for Legislation and Congressional Affairs. Effective June 21, 2002.

Special Assistant to the Assistant Secretary for Elementary and Secondary Education. Effective June 25, 2002.

Confidential Assistant to the Deputy Assistant Secretary for Regional Services. Effective June 25, 2002.

Department of Energy

Special Assistant to the Assistant Secretary for Fossil Energy. Effective June 6, 2002.

Deputy Assistant Secretary for Budget and Appropriations to the Assistant Secretary for Congressional and Intergovernmental Affairs. Effective June 7, 2002.

Senior Advisor to the Executive Director, Secretary of Energy Advisory Board. Effective June 12, 2002.

Program Manager (Energy Reliability) to the Director, Office of Security. Effective June 24, 2002.

Senior Manager of Public Affairs, National Nuclear Security Administration to the Director, Congressional Intergovernmental and Public Affairs. Effective June 26, 2002.

Department of Health and Human Services

Special Assistant to the White House Liaison for Political Personnel, Boards and Commissioners. Effective June 5, 2002.

Department of Housing and Urban Development

Staff Assistant to the Assistant Secretary for Public Affairs. Effective June 4, 2002.

Deputy Assistant Secretary for Economic Affairs to the Assistant Secretary for Community Planning and Development. Effective June 11, 2002.

Staff Assistant to the Director, Executive Scheduling. Effective June 27, 2002.

Department of the Interior

Special Assistant to the Director, Fish and Wildlife Service. Effective June 7, 2002.

Special Assistant to the Assistant Secretary, Fish, Wildlife and Parks. Effective June 14, 2002.

Special Assistant to the Director, Fish and Wildlife Service. Effective June 21, 2002.

Special Assistant to the Deputy Director for External Affairs. Effective June 26, 2002.

Department of Justice

Special Assistant for International Protocol to the Director, Office of International Affairs, Criminal Division. Effective June 10, 2002.

Counsel to the Director, Office of International Affairs. Effective June 20, 2002.

Secretary (OA) to the Assistant United States Attorney, Northern District of Oklahoma. Effective June 25, 2002.

Secretary (OA) to the United States Attorney, Eastern District of Arkansas. Effective June 25, 2002.

Department of Labor

Special Assistant to the Assistant Secretary for Office of Congressional and Intergovernmental Affairs. Effective June 3, 2002.

Special Assistant to the Assistant Secretary for Public Affairs. Effective June 7, 2002.

Special Assistant to the Director, Office of Faith Based and Community Initiatives. Effective June 7, 2002.

Staff Assistant to the White House Liaison. Effective June 19, 2002.

Special Assistant to the Director, Office of Public Liaison. Effective June 26, 2002.

Deputy Director to the Director, Office of Faith-Based and Community Initiatives. Effective June 26, 2002.

Staff Assistant to the Executive Assistant to the Secretary of Labor. Effective June 26, 2002.

Department of State

Foreign Affairs Officer to the Coordinator for United States Assistance to Europe and Eurasia. Effective June 7, 2002.

Executive Assistance to the Inspector General. Effective June 13, 2002.

Staff Assistant to the Director, White House Liaison. Effective June 13, 2002.

Staff Assistant to the Assistant Secretary for Resource Management. Effective June 13, 2002.

Senior Advisor to the Assistant Secretary, International Narcotics and Law Enforcement Affairs. Effective June 13, 2002.

Special Assistant to the Coordinator, International Information Program. Effective June 13, 2002.

Foreign Affairs Officer to the Assistant Secretary for Western Hemisphere Affairs. Effective June 14, 2002.

Office Director (Foreign Affairs) to the Assistant Secretary, Democracy, Human Rights and Labor. Effective June 19, 2002.

Special Assistant to the Assistant Secretary for Resource Management. Effective June 20, 2002.

Special Assistant to the Deputy Assistant Secretary. Effective June 26, 2002.

Resource, Plans, and Policy Advisor to the Assistant Secretary for Resource Management. Effective June 26, 2002.

Legislative Analyst to the Assistant Secretary for Legislative Affairs. Effective June 27, 2002.

Resources, Plans and Policy Advisor to the Assistant Secretary for Resource Management. Effective June 28, 2002.

Department of Transportation

Senior Advisor to the Maritime Administrator. Effective June 20, 2002.

Department of Veterans Affairs

Special Assistant to the Assistant Secretary for Public and Intergovernmental Affairs. Effective June 5, 2002.

Environmental Protection Agency

Program Advisor (Advance Person) to the Administrator. Effective June 4, 2002.

Special Assistant (Advance Person) to the Administrator. Effective June 7, 2002.

Director of Long Term Communication Planning to the Administrator. Effective June 14, 2002.

Director, Advance Staff to the Director of Long-Range Communications Planning. Effective June 21, 2002.

Special Assistant to the Associate Administrator for the Office of Public Affairs. Effective June 21, 2002.

Federal Emergency Management Agency

Staff Assistant to the Assistant Director, Administration and Planning Resource Directorate. Effective June 6, 2002.

Executive Assistant to the Assistant Director, Administration and Resource Planning. Effective June 7, 2002.

General Services Administration

Events Management Specialist to the Director of External Affairs. Effective June 18, 2002.

National Credit Union Administration

Special Assistant for Legislative Affairs to the Director of Public and Congressional Affairs. Effective June 3, 2002.

Office of National Drug Control Policy

Press Secretary (Assistant Director) to the Director, Office of National Drug Control Policy. Effective June 5, 2002.

Office of the United States Trade Representative

Confidential Assistant to the Chief Agricultural Negotiator. Effective June 11, 2002.

Pension Benefit Guaranty Corporation

Assistant Executive Director for Legislative Affairs to the Executive Director, Pension Benefit Guaranty Corporation. Effective June 7, 2002.

Small Business Administration

Assistant Scheduler to the Administrator, Small Business Administration. Effective June 10, 2002.

Special Assistant to the Assistant Administrator for Communications and Public Liaison. Effective June 12, 2002.

Deputy Press Secretary and Senior Advisor to the Associate Administrator for Communications and Public Liaison. Effective June 20, 2002.

Senior Advisor to the Associate Deputy Administrator for Capital Access. Effective June 26, 2002.

Authority: 5 U.S.C. 3301 and 3302; E.O. 10577, 3 CFR 1954—1958 Comp., P.218.

Office of Personnel Management.
Kay Coles James,
Director.

[FR Doc. 02-20434 Filed 8-12-02; 8:45 am]

BILLING CODE 6325-38-P